DEPARTMENT OF COMMERCE

National Oceanic and Atmospheric Administration

RIN 0648-XD785

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold scoping workshops for Reef Fish Amendment 36.

DATES: The scoping meetings will be held from Tuesday, March 10 through Tuesday, March 24, 2015 at seven locations throughout the Gulf of Mexico. The scoping meetings will begin at 6 p.m. and will conclude no later than 9 p.m. For specific dates and locations see SUPPLEMENTARY INFORMATION below.

ADDRESSES:

Meeting address: The public hearings will be held in the following locations: Mobile, AL; Pascagoula, MS; Panama City Beach and St. Petersburg, FL; Houma, LA; and Galveston and Port Aransas, TX.

Council address: Gulf of Mexico Fishery Management Council, 2203 North Lois Avenue, Suite 1100, Tampa, FL 33607.

FOR FURTHER INFORMATION CONTACT: Dr. Ava Lasseter, Anthropologist, Gulf of Mexico Fishery Management Council; telephone: (813) 348-1630; fax: (813) 348-1711; email: ava.lasseter@gulfcouncil.org.

SUPPLEMENTARY INFORMATION: The items of discussion in the public hearings are as follows:

The Council is examining a broad scope of potential modifications to the Red Snapper Individual Fishing Quota (IFQ) program. These include changes to the program's eligibility requirements; redistribution of shares held in inactive accounts to address regulatory discards; consideration of a full retention commercial fishery for red snapper; exploring share, allocation, and vessel caps on quota; requirements for the use of shares and/or allocation; withholding full distribution of shares in the event of an anticipated mid-year quota change; and increasing enforcement of all commercial reef fish landings. Although this action focuses on red snapper specifically, the implication of Red Snapper IFQ program changes on the Grouper-Tilefish IFQ program, and other potential issues with in the Grouper-Tilefish IFQ program will also be discussed.

The scoping workshops will begin at 6 p.m. and conclude at the end of public testimony or no later than 9 p.m. at the following locations:

Tuesday, March 10, 2015, Courtyard Marriott, 142 Library Drive, Houma, LA 70360, telephone: (985) 223-8996;

Thursday, March 12, 2015, Hilton Garden Inn, 6703 Denny Avenue, Pascagoula, MS 39567, telephone: (228) 762-7182;

Monday, March 16, 2015, Hilton Galveston Island Hotel, 5400 Seawall Boulevard, Galveston Island, TX 77551, telephone: (409) 744-5000;

Tuesday, March 17, 2015, Hawthorn Suites by Wyndham, 501 East Goodnight Avenue, Aransas Pass, TX 78336, telephone: (361) 758-1774; Renaissance Mobile Riverview Plaza Hotel, 64 South Water Street, Mobile, AL 36602, telephone: (251) 438-4000;

Wednesday, March 18, 2015, Hilton Garden Inn, 1101 US Highway 231, Panama City, FL 32405, telephone: (850) 392-1093; and

Tuesday, March 24, 2015, Hilton St. Petersburg Carillon Park, 950 Lake Carillon Drive, St. Petersburg, FL 33716, telephone: (727) 540-0050.

Copies of the scoping workshop documents can be obtained by calling (813) 348-1630 or visiting www.GulfCouncil.org.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: February 19, 2015.
Tracey L. Thompson,
Acting Deputy Director, Office of Sustainable Fisheries, National Marine Fisheries Service.

[FR Doc. 2015-03700 Filed 2-23-15; 8:45 am]

BILLING CODE 3510-22-P